DEPARTMENT OF THE TREASURY

Submission for OMB Review; Comment Request

May 18, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before June 22, 2011 to be assured of consideration.

Alcohol and Tobacco Tax And Trade Bureau (TTB)

OMB Number: 1513-0017.

Type of Review: Extension without change of a currently approved collection.

Title: Drawback on Beer Exported.

Form: TTB F 5130.6

Abstract: When tax-paid beer is removed from a brewery and ultimately exported, the brewer exporting the beer is eligible for a drawback (refund) of Federal taxes paid. By completing this form and submitting documentation of exportation, the brewer may receive a refund of Federal taxes paid.

Respondents: Private Sector: Businesses or other for-profits.

Estimated Total Burden Hours: 5,000.

OMB Number: 1513-0034.

Type of Review: Extension without change of a currently approved collection.

Title: Schedule of Tobacco Products, Cigarette Papers, or Tubes Withdrawn from the Market.

Forms: TTB F 5200.7.

Abstract: TTB F 5200.7 is used by persons who intend to withdraw tobacco products from the market for which the taxes have already been paid or determined. The form describes the products that are to be withdrawn to determine the amount of tax to be claimed later as a tax credit or refund. The form notifies TTB when withdrawal or destruction is to take place, and TTB may elect to supervise withdrawal or destruction.

Respondents: Private Sector: Businesses or other for-profits.

Estimated Total Burden Hours: 1,539.

OMB Number: 1513-0062.

Type of Review: Extension without change of a currently approved collection.

Title: Usual and Customary Business Records Relating to Denatured Spirits—TTB REC 5150/1.

Abstract: Denatured Spirits are used for non-beverage industrial purposes in the manufacture of personal household products. The manufacturer maintains and TTB inspects records to ensure spirits accountability. By ensuring that spirits have not been diverted to beverage use, TTB protects tax revenue and public safety. These are normal business records that the manufacturer already keeps.

Respondents: Private Sector: Businesses or other for-profits; State, Local, and Tribal Governments.

Estimated Total Burden Hours: 1.

OMB Number: 1513-0113.

Type of Review: Extension without change of a currently approved collection.

Title: Special Tax “Renewal” Registration and Return/Special Tax Location Registration Listing.

Form: 5630.5R.

Abstract: 26 U.S.C. Chapter 52 authorizes collection of special taxes from persons engaging in certain tobacco businesses. TTB F 5630.5R is used to compute tax and as an application for registry.

Respondents: Private Sector: Businesses or other for-profits.

Estimated Total Burden Hours: 100.

Clearance Officer: Gerald Isenberg, Alcohol and Tobacco Tax and Trade Bureau, Room 200 East, 1310 G Street, NW., Washington, DC 20005; (202) 453-2165.

OMB Reviewer: Shagufta Ahmed, Office of Management and Budget, New Executive Office Building, Room 10235, Washington, DC 20503; (202) 395-7873.

Dawn D. Wolfgang,
Treasury PRA Clearance Officer.

[FR Doc. 2011-12577 Filed 5-20-11; 8:45 am]

BILLING CODE 4810-31-P